DEPARTMENT OF ENERGY

Federal Energy Regulatory Commission

[Docket No. RP03-605-001]

Tennessee Gas Pipeline Company; Notice of Compliance Tariff Filing

October 23, 2003.

Take notice that on October 20, 2003, Tennessee Gas Pipeline Company (Tennessee), tendered for filing as part of its FERC Gas Tariff, Fifth Revised Volume No. 1, Sub Eighth Revised Sheet No. 357, with an effective date of March 1, 2004.

Tennessee's filing requests that the Commission approve a revision to Article VII of the General Terms and Conditions of Tennessee's FERC Gas Tariff. Tennessee states that the revision is filed in compliance with the Commission's October 10, 2003, order requiring Tennessee to remove certain language and clarify the general intent of the provision.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E3-00131 Filed 10-29-03; 8:45 am]

BILLING CODE 6717-01-P